Proclamation 10216 of May 21, 2021

National Maritime Day, 2021

By the President of the United States of America

A Proclamation

Since the first days of our Republic, America has been a proud maritime Nation. To this day, the United States Merchant Marine is a pillar of our country's prosperity, playing a vital role in the maintenance of our economic and national security. Through every period of peace and war, our merchant mariners have been dedicated to protecting our freedom and promoting commerce. On National Maritime Day, we honor the steadfast commitment and sacrifices of the men and women who serve in the United States Merchant Marine, and recognize their essential role in safeguarding and strengthening our Nation.

Called the “fourth arm of defense” by President Franklin D. Roosevelt during World War II, the Merchant Marine established itself as a cornerstone of sealift support for our Armed Forces, sailing through theaters of war to deliver troops and supplies while keeping vital ocean supply lines operating. The perseverance and dedication of the Merchant Marine contributed to the Allied victory even as they suffered one of the highest casualty rates of any of our military services.

Our merchant mariners also play a critical role in times of peace. They ensure our economic security by keeping our coastal and inland waterways open to trade, while United States-flagged ships operated by American merchant mariners transport goods across our country and all over the world. United States maritime freight operations helped support $5.4 trillion of economic activity among the many non-maritime industries that depend on the Merchant Marine for access to world markets. This movement of goods domestically and internationally continues to ensure America's economic competitiveness throughout the world—growing jobs and supporting businesses of all sizes here at home.

Our merchant mariners are also critical to extending United States support and assistance to foreign nations and local communities hit hard by natural disasters and devastating crises. Even in the midst of a worldwide pandemic, these brave men and women have overcome seemingly insurmountable obstacles to fulfill their mission while keeping our Nation's supply chains running.

The operation of the United States-flagged fleet is essential in contributing to the reduction of greenhouse gas emissions and landside congestion, helping provide current and future generations with a more sustainable means of freight transportation. The industry is also working to develop and implement new technologies to continue reducing emissions—an effort my Administration is supporting through new international partnerships.

The maritime industry has long provided opportunity for Americans of all backgrounds—and the Merchant Marine continues to advance a more equitable industry in which barriers to entry and advancement are eliminated.

On this National Maritime Day, we honor the brave merchant mariners who provide critical support to our troops stationed in warzones, and who are essential to our Nation's economic success. Recognizing the contributions of our merchant mariners, my Administration strongly supports protecting the Jones Act—the cornerstone of our domestic maritime industry. We must protect those who protect our country.

The Congress, by a joint resolution approved May 20, 1933, has designated May 22 of each year as “National Maritime Day” to commemorate the first transoceanic voyage by a steamship in 1819 by the S.S. Savannah. By this resolution, the Congress has authorized and requested the President to issue annually a proclamation calling for its appropriate observance.

NOW, THEREFORE, I, JOSEPH R. BIDEN JR., President of the United States of America, by virtue of the authority vested in me by the Constitution and the laws of the United States, do hereby proclaim May 22, 2021, as National Maritime Day. I call upon all Americans to observe this day and to celebrate with appropriate programs, ceremonies, and activities.

IN WITNESS WHEREOF, I have hereunto set my hand this twenty-first day of May, in the year of our Lord two thousand twenty-one, and of the Independence of the United States of America the two hundred and forty-fifth.

[FR Doc. 2021-11458

Filed 5-27-21; 8:45 am]

Billing code 3295-F1-P